DEPARTMENT OF LABOR

Employment and Training Administration

[TA-W-61,764]

Victor Forstmann, Inc., East Dublin, GA; Notice of Termination of Investigation

Pursuant to Section 221 of the Trade Act of 1974, as amended, an investigation was initiated on June 29, 2007 in response to a petition filed by a company official on behalf of workers at Victor Forstmann, Inc., East Dublin, Georgia.

The petitioner has requested that the petition be withdrawn. Consequently, the investigation has been terminated.

Signed at Washington, DC, this 12th day of July 2007.
Elliott S. Kushner,
Certifying Officer, Division of Trade Adjustment Assistance.

[FR Doc. E7-14225 Filed 7-23-07; 8:45 am]

BILLING CODE 4510-FN-P